FEDERAL COMMUNICATIONS COMMISSION

47 CFR Part 68

[CC Docket No. 99-216, FCC 00-400]

2000 Biennial Regulatory Review of Adopting Technical Criteria and Approving Terminal Equipment

AGENCY: Federal Communications Commission.

ACTION: Final rule; announcement of effective date.

SUMMARY: The Federal Communications Commission (Commission) amended its rules governing the connection of terminal equipment to the public switched telephone network to streamline the standards development and approval processes. These rules contained information collection requirements that became effective on May 9, 2001.

DATES: Effective May 9, 2001.

FOR FURTHER INFORMATION CONTACT: Susan Magnotti, (202) 418-2320 (voice), smagnotti@fcc.gov, or Dennis Johnson, (202) 418-2320 (voice), dcjohnso@fcc.gov, of the Network Services Division, Common Carrier Bureau. The TTY number is (202) 418-0484.

SUPPLEMENTARY INFORMATION: On December 21, 2000, the Commission adopted the Part 68 Streamlining Order which amended the Commission's rules governing the connection of terminal equipment to the public switched telephone network in an effort to privatize and streamline the standards development and approval processes; a summary of the order was published in the Federal Register. 66 FR 7579 (January 24, 2001). Some of the regulations adopted in that order included information collection that required approval from the Office of Management and Budget. The order explained that “[t]he collections of information contained within are contingent upon approval by the OMB. The Commission will publish a document at a later date establishing the effective date.” OMB approved the amendments to 47 CFR 68.106-68.610 that establish those reporting requirements. See OMB No. 3060-0056. Accordingly, these regulations will become effective upon publication of this document in the Federal Register. This document constitutes publication of the effective date of the regulations. We note that the information collection requirements in § 68.105, as adopted in the Part 68 Streamlining Order, were originally established in a separate proceeding as part of the definition of the term “demarcation point” in 47 CFR 68.3 (1999). 15 FCC Rcd 22983 (2000). Therefore, that rule will become effective upon OMB approval in the Competitive Networks proceeding.

List of Subjects in 47 CFR Part 68

Communications common carriers, Terminal equipment, Part 68, Technical criteria.

Federal Communications Commission.
Magalie Roman Salas,
Secretary.

[FR Doc. 01-11589 Filed 5-8-01; 8:45 am]

BILLING CODE 6712-01-P